POSTAL SERVICE

39 CFR Part 111

Clarification of the Post Office Box Lock Replacement Fee

AGENCY: Postal Service™.

ACTION: Final rule.

SUMMARY: The Postal Service will revise Mailing Standards of the United States Postal Service, Domestic Mail Manual (DMM®) 508.4.8.4 to clarify the applicability of the lock replacement fee for Post Office™ boxes to reflect current practice.

DATES: January 2, 2011.

FOR FURTHER INFORMATION CONTACT: Nan McKenzie at 202-268-3089 or David Rubin at 202-268-2986.

SUPPLEMENTARY INFORMATION: On July 9, 2010, the Federal Register published the Postal Service proposed rule, New Standards for Domestic Mailing Services (75 FR 39477-39492). The applicability of the lock replacement fee for Post Office (PO) Boxes was included in this proposed rule.

Current DMM standards require payment of the lock replacement fee when a customer requests that the lock be changed. The Postal Service also applies this fee when customers renew PO Box™ service more than 10 days after the renewal due date. This provides an incentive for customers to pay their PO Box rental fee on time. For those customers who do not renew until after the 10-day grace period, the Postal Service often changes the lock or incurs other related costs, such as plugging the lock and bundling and holding mail separately for the owner of the PO Box. The lock replacement fee is treated as a late payment fee, even in those cases in which the Postal Service does not actually change the lock.

No customer comments were received regarding the July 9, 2010 proposed rule.

The Postal Service hereby adopts the following changes to the Mailing Services of the United States Postal Service, Domestic Mail Manual (DMM), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

500 Additional Mailing Services

* * * * *

508 Recipient Services

* * * * *

4.0 Post Office Box Service

* * * * *

4.8 Keys and Locks

* * * * *

4.8.4 Lock Replacement

[Revise text of 4.8.4 by adding the following sentence as a new last sentence as follows:]

* * * The lock replacement fee also applies as a late payment charge when the customer renews a box more than 10 days after the renewal due date, whether or not the lock is actually changed.

* * * * *

We will publish an appropriate amendment to 39 CFR part 111 to reflect these changes.

Stanley F. Mires,
Chief Counsel, Legislative.

[FR Doc. 2010-29732 Filed 11-23-10; 8:45 am]

BILLING CODE 7710-12-P